ENVIRONMENTAL PROTECTION AGENCY

[ER-FRL-6615-3]

Environmental Impact Statements; Notice of Availability

Responsible Agency: Office of Federal Activities, General Information (202) 564-7167 www.epa.gov/oeca/ofa

Weekly receipt of Environmental Impact Statements

Filed January 29, 2001 Through February 02, 2001

Pursuant to 40 CFR 1506.9.

EIS No. 010029, Draft EIS, AFS, ID, MT, Lookout Pass Ski and Recreation Area (LPSRA) Expansion Project, Implementation, Amendment to the Existing Special Use Permit, NPDES Permit and COE Section 404 Permit, Idaho Panhandles National Forests, Coeur d'Alene River Range District, ID and MT, Due: March 26, 2001, Contact: Kerry Arneson (208) 769-3000.

EIS No. 010030, Final EIS, FHW, MD, US-301 Transportation Study, Improvements, from US-301 North of US-301/MD-5 Interchange at T.B. to US 50 in Bowie, Northern Corridor Tier I, Prince George's County, MD, Due: March 12, 2001, Contact: Mary F. Huie (410) 962-4342.

EIS No. 010031, Draft EIS, FHW, MI, I-96/Airport Area Access Study, Transportation Improvements, Surrounding the Gerald R. Ford International Airport, Kent County, MI, Due: March 26, 2001, Contact: James A. Kirschensteiner (517) 377-1880.

EIS No. 010032, Draft EIS, AFS, NH, Loon Mountain Ski Resort Development and Expansion Project, Implementation, Special Use Permit, White Mountain National Forest, Pemgewasset Ranger District, Grafton County, NH, Due: March 26, 2001, Contact: Jay Strand (802) 767-4261.

EIS No. 010033, Draft EIS, AFS, MT, Maudlow-Toston Post-Fire Salvage Sale, Harvesting Burnt Timber, Implementation, Helena National Forest, Townsend Ranger District, Broadway County, MT, Due: March 26, 2001, Contact: Joni Packard (406) 266-3425.

EIS No. 010034, Draft Supplement, FAA, UT, Cal Black Memorial Airport Project, New and Updated Information for the Replacing of Halls Crossing Airport, within the boundary of Glen Canyon National Recreation, Halls Crossing, San Juan Counties, UT, Due: March 30, 2001, Contact: Dennis Ossenkop (206) 227-2611.

EIS No. 010035, Draft EIS, IBR, WA, Potholes Reservoir Resource Management Plan, Implementation, COE Section 404 and NPDES Permits, Moses Lake, Grant County, WA, Due: March 27, 2001, Contact: Lola Sept (208) 378-5032.

EIS No. 010036, Draft EIS, FHW, PA, Central Susquehanna Valley Transportation Project, Improve Transportation, PA 0015 Section 088, Funding and COE Section 404 Permit, Snyder, Northumberland and Union Counties, PA, Due: March 26, 2001, Contact: James A. Cheatham (717) 221-3461.

EIS No. 010037, Final EIS, NPS, LA, Cane River Creole National Historical Park, General Management Plan, Natchitoches Parish, LA, Due: March 12, 2001, Contact: Laura Sourlliere (318) 352-0383.

EIS No. 010038, Final EIS, MMS, TX, MS, FL, LA, AL, Programmatic EIS—Proposed Use of Floating Production, Storage and Offloading Systems on the Gulf of Mexico, Outer Continental Shelf, Western and Central Planning Areas, TX, LA, MS, AL and FL, Due: March 12, 2001, Contact: Archie Melanson (703) 787-1647.

Amended Notices

EIS No. 000451, Draft EIS, DOE, TN, Programmatic EIS—Oak Ridge Y-12 Plant Mission, Processing and Storage Highly Enriched Uranium, U.S. Nuclear Weapons Stockpile, Anderson County, TN, Due: February 05, 2001, Contact: Gary S. Hartman (865) 576-0273.

Revision of FR notice published on 12/22/2000: CEQ Comment Date has been extended from 02/05/2001 to 02/23/2001.

EIS No. 010023, Fourth Draft Supplement, NOA, AK, Groundfish Fishery Management Plan, Implementation, Bering Sea and Aleutian Islands, AK, Due: April 26, 2001, Contact: James W. Balsiger (907) 586-7221.

This EIS should have appeared in the FR on 01/26/2001. The Review Period is Calculated from 01/26/2001.

Dated: February 06, 2001.
Joseph C. Montgomery,
Director, NEPA Compliance Division, Office of Federal Activities.

[FR Doc. 01-3407 Filed 2-8-01; 8:45 am]

BILLING CODE 6560-50-P